DEPARTMENT OF HOUSING AND URBAN DEVELOPMENT

[Docket No. FR-5946-N-04]

Notice of Regulatory Waiver Requests Granted for the Fourth Quarter of Calendar Year 2016

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2016, and ending on December 31, 2016.

FOR FURTHER INFORMATION CONTACT: For general information about this notice, contact Ariel Pereira, Associate General Counsel for Legislation and Regulations, Department of Housing and Urban Development, 451 7th Street SW., Room 10282, Washington, DC 20410-0500, telephone 202-708-3055 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the fourth quarter of calendar year 2016.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from October 1, 2016 through December 31, 2016. For ease of reference, the waivers granted by HUD are listed by HUD program office (for example, the Office of Community Planning and Development, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the fourth quarter of calendar year 2016) before the next report is published (the first quarter of calendar year 2017), HUD will include any additional waivers granted for the fourth quarter in the next report.

Accordingly, information about approved waiver requests pertaining to HUD regulations is provided in the Appendix that follows this notice.

Dated: March 24, 2017.
Ariel Pereira,
Associate General Counsel for Legislation and Regulations.

Appendix—

Listing of Waivers of Regulatory Requirements Granted by Offices of the Department of Housing and Urban Development October 1, 2016 Through December 31, 2016

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 91.105(c)(2).

Project/Activity: Lafayette, LA.

Nature of Requirement: The regulation at 24 CFR 91.105(c)(2) requires a 30-day public comment period prior to the implementation of a substantial amendment to a grantee's consolidated plan.

Granted By: Harriet Tregoning, Principal Deputy Assistant Secretary for Community Planning and Development.

Date Granted: December 6, 2016.

Reason Waived: Lafayette, LA City-Parish was affected by severe flooding August 11-31, 2016, causing substantial property damage. A Presidentially-declared disaster declaration (FEMA-DR-4277) was initially issued on August 14, 2016. Amendment No. 1 issued on August 16, 2016, included multiple, additional parishes, including Lafayette Parish, that were adversely affected by the severe storms and flooding that occurred for the effective period of August 11-31, 2016. The waiver was issued to reduce the required comment period to seven days to allow the City-Parish to expedite recovery efforts for low and moderate income residents affected by the flooding.

Contact: Steve Johnson, Director, Entitlement Communities Division, Office of Community Planning and Development, Department of Housing and Urban Development, 451 7th Street SW., Room 7282, Washington, DC 20410, telephone (202) 402-4548.

• Regulation: 24 CFR 91.105(c)(2), 24 CFR 570.201(e)(1), and 24 CFR 570.207(b)(3).

Project/Activity: Baton Rouge, LA.

Nature of Requirement: The regulations at 24 CFR 91.105(c)(2), 24 CFR 570.201(e)(1), and 24 CFR 570.207(b)(3) require a 30-day public comment period prior to the implementation of a substantial amendment to a grantee's consolidated plan, limit the amount of CDBG funds used for public services to no more than 15 percent of each grant, and prohibit CDBG grantees from carrying out new construction of housing, respectively.

Granted By: Harriet Tregoning, Principal Deputy Assistant Secretary for Community Planning and Development.

Date Granted: December 6, 2016.

Reason Waived: Baton Rouge, LA City-Parish was affected by severe flooding August 11-31, 2016, causing substantial property damage. A Presidentially-declared disaster declaration (FEMA-DR-4277) was initially issued on August 14, 2016. The declaration covers the severe storms and flooding that occurred for the effective period of August 11-31, 2016. These waivers, and accompanying statutory suspensions under Section 122 of the Housing and Community Development Act of 1974, were granted to allow Baton Rouge to expedite recovery efforts for low and moderate income residents affected by the flooding by reducing the required public comment period to seven days; pay for additional support services for affected individuals and families, including, but not limited to, food, health, employment, and case management services to help county residents impacted by the flooding; and allow grantees to use their CDBG funds for new housing construction to replace affordable housing units lost as a result of the storms and flooding.

Contact: Steve Johnson, Director, Entitlement Communities Division, Office of Community Planning and Development, Department of Housing and Urban Development, 451 7th Street SW., Room 7282, Washington, DC 20410, telephone (202) 402-4548.

• Regulation: 24 CFR 570.200(h).

Project/Activity: On December 15, 2016, HUD issued CPD Notice #CPD-16-18 implementing procedures to govern the submission and review of consolidated plans and action plans for FY 2017 funding prior to the enactment of a FY 2017 HUD appropriation bill. These procedures apply to any Entitlement, Insular or Hawaii nonentitlement grantee with a program year start date prior to, or up to 60 days after, HUD's announcement of the FY 2017 formula program funding allocations for CDBG, ESG, HOME and HOPWA formula funding.

Nature of Requirement: The Entitlement CDBG program regulation at 24 CFR 570.200(h) authorizes a grantee to incur costs against its CDBG grant prior to the effective date of its grant agreement with HUD. Under this regulation, the effective date of a grantee's grant agreement is either the grantee's program year start date or the date that the grantee's consolidated plan/action plan is received by HUD, whichever is later. This waiver was issued to the extent necessary to treat the effective date of a grantee's grant agreement as the grantee's program year start date or date or the date that the grantee's consolidated plan/action plan is received by HUD, whichever is earlier.

Granted By: Harriet Tregoning, Principal Deputy Assistant Secretary for Community Planning and Development.

Date Granted: December 15, 2016, for effect on October 14, 2015.

Reason Waived: Under the provisions of the Notice, a grantee's consolidated plan/action plan may not be submitted to (and thus received by) HUD until several months after the grantee's program year start date. Lengthy delays in the enactment of FY 2017 appropriations for the Department, and implementation of the policy to delay submission of FY 2017 Action Plans, may have negative consequences for CDBG grantees that intend to incur eligible costs prior to the award of FY 2017 funding. Some activities might otherwise be interrupted while implementing these revised procedures. In addition, grantees might not otherwise be able to use CDBG funds for planning and administrative costs of administering their programs. In order to address communities' needs and to ensure that programs can continue without disturbance, this waiver was issued to allow grantees to incur pre-award costs on a timetable comparable to that under which grantees have operated in past years. This waiver is available for use by any applicable CDBG grantee whose action plan submission is delayed past the normal submission date because of delayed enactment of FY 2017 appropriations for the Department. This waiver authority is only in effect until August 16, 2017.

Contact: Steve Johnson, Director, Entitlement Communities Division, Office of Community Planning and Development, Department of Housing and Urban Development, 451 7th Street SW., Room 7282, Washington, DC 20410, telephone (202) 402-4548.

• Regulation: 24 CFR 576.403 and 24 CFR 576.106.

Project/Activity: State of Texas.

Nature of Requirement: 24 CFR 576.403(c) states that Emergency Solutions Grants (ESG) funds cannot be used to assist participants living in, or moving into, housing that does not meet Minimum Habitability Standards. 24 CFR 576.106(d) prevents ESG rental assistance funds from being used to provide rental assistance in a unit that exceeds HUD determined Fair Market Rent(FMR).

Granted By: Harriet Tregoning, Principal Deputy Assistant Secretary for Community Planning and Development (CPD).

Date Granted: November 21, 2016.

Reason Waived: HUD granted a limited, conditional waiver of 24 CFR 576.403(c) to allow subrecipients to provide the legal services necessary to prevent eviction and/or obtain the necessary repairs to bring program participants' units up to the required standards and stabilize them in their housing. In addition, because the state provided sufficient documentation of its subrecipients inability to provide adequate ESG rental assistance in units at or below FMR, HUD waived 24 CFR 576.106(d)(1) to allow subrecipients in certain areas to provide ESG rental assistance for units with rents up to the payment standard adopted by the applicable PHA.

Contact: Shirley J. Henley, Director, Office or Community Planning and Development, Department of Housing and Urban Development, 801 Cherry Street, Unit 45 Suite 2500, Room 2884, Fort Worth, TX 76102, telephone (817) 978-5951.

• Regulation: CPD Notice 14-10.

Project/Activity: Langworthy Field, Hopkinton, Rhode Island.

Nature of Requirement: This notice sets forth the transition from the use of the Decennial Census data to the American Communities Survey data by the Department and provides specific implementation guidance for State Community Development Block Grant program participants in doing so. This notice has an effective date for which this transition must occur for program participants.

Granted By: Harriet Tregoning, Principal Assistant Secretary for Community Planning and Development.

Date Granted: December 8, 2016.

Reason Waived: The Langworthy Field project has been funded out of multiple years funding and in order to finalize the project and comply with the area benefit national objective for the State Community Development Block Grant Program, the effective date of CPD Notice 14-10 needed to be waived and a new effective date be established, for this activity only, so that it may be completed.

Contact: James Höemann, Deputy Director, Office of State and Small Cities Division, Department of Housing and Urban Development, 451 7th Street SW., Room 7184, Washington, DC 20410, telephone (202) 402-5716.

II. Regulatory Waivers Granted by the Office of Housing—Federal Housing Administration (FHA)

For further information about the following regulatory waivers, please see the name of the contact person that immediately follows the description of the waiver granted.

• Regulation: 24 CFR 219.220(b).

Project/Activity: Leigh Johnson Apartments, FHA Project Number 071-44087T, Chicago, Illinois. 73rd & Dobson Housing Corporation (Owner) seeks approval to defer repayment of the Flexible Subsidy Operating Assistance Loan on the subject project.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted By: Edward L. Golding, Principal Deputy Assistant Secretary for Housing.

Date Granted: November 3, 2016.

Reason Waived: The owner requested and was granted a waiver of the requirement to repay the Flexible Subsidy Operating Assistance Loan in full when it became due. Deferring the loan payment will preserve this affordable housing resource for an additional 20 years through the execution and recordation of a Rental Use Agreement.

Contact: Marilynne Hutchins, Senior Account Executive, Office of Housing, Department of Housing and Urban Development, 451 7th Street SW., Room 6174, Washington, DC 20410, telephone (202) 402-4323.

• Regulation: 24 CFR 266.200(b)(2).

Project/Activity: Federal Financing Bank (FFB) Risk Sharing Initiative, Substantial Rehabilitation, New York State Housing (NYCHDC). Waivers of certain provisions of the Risk Sharing Program regulations for 14 projects utilizing the Federal Financing Bank (FFB) Risk Sharing Initiative in calendar year 2016.

Nature of Requirement: The 24 CFR part 266.200(b)(2) Substantial Rehabilitation. The Department will permit the revised definition of substantial rehabilitation (S/R) in the revised MAP Guide published on January 29, 2016, such that S/R is: Any scope of work that either: (a) Exceeds in aggregate cost a sum equal to the `base per dwelling unit limit' times the applicable High Cost Factor, or (b) Replacement of two or more building systems. `Replacement' is when the cost of replacement work exceeds 50 percent of the cost of replacing the entire system. The base limit is revised to $15,000 per unit for 2015, and will be adjusted annually based on the percentage change published by the Consumer Financial Protection Bureau, or other inflation cost index published by HUD.

Granted By: Edward L. Golding, Principal Deputy Assistant Secretary for Housing.

Date Granted: October 27, 2016.

Reason Waived: Necessary to effectuate the Federal Financing Bank (FFB) Risk Sharing Initiative between Housing and Urban Development and the Treasury Department/FFB announced in Fiscal Year 2014. The approval and execution of the FFB Risk Sharing Agreement will facilitate the expansion of the program to increase the supply of affordable rental housing and to assist in the preservation of existing of rental housing. Under this Initiative, FFB provides capital to participating Housing Finance Agencies (HFAs) to make multifamily loans insured under the FHA Multifamily Risk Sharing Program.

Contact: Daniel J. Sullivan, Acting Director, Office of Multifamily Production, Office of Housing, Department of Housing and Urban Development, 451 7th Street SW., Room 6134, Washington, DC 20410, telephone (202) 402-6130.

• Regulation: 24 CFR 266.200(c)(2).

Project/Activity: Federal Financing Bank (FFB) Risk Sharing Initiative, Equity Take-Outs. New York State Housing Finance Agency (NYSHFA). Waivers of certain provisions of the Risk Sharing Program regulations for 14 projects utilizing the Federal Financing Bank (FFB) Risk Sharing Initiative in calendar year 2016.

Nature of Requirement: Equity take-outs for existing projects (refinance transactions): Permit the insured mortgage to exceed the sum of the total cost of acquisition, cost of financing, cost of repairs, and reasonable transaction costs or “equity take-outs” in refinances of HFA-financed projects and those outside of HFA's portfolio if the result is preservation with the following conditions:

1. Occupancy is no less than 93% for previous 12 months;

2. No defaults in the last 12 months of the HFA loan to be refinanced;

3. A 20 year affordable housing deed restriction placed on title that conforms to the 542(c) statutory definition;

4. A Property Capital Needs Assessment (PCNA) must be performed and funds escrowed for all necessary repairs, and reserves funded for future capital needs; and

5. For projects subsidized by Section 8 Housing Assistance Payment (HAP) contracts:

a. Owner agrees to renew HAP contract(s) for 20-year term, (subject to appropriations and statutory authorization, etc.,), and

b. In accordance with regulations found in 24 CFR 883.306(e), and Housing Notice 2012-14—Use of “New Regulation” Section 8 Housing Assistance Payments (HAP) Contracts Residual Receipts of Offset Project-Based Section 8 Housing Assistance Payments, if at any time NYSHFA determines that a project's excess funds (surplus cash) after project operations, reserve requirements and permitted distributions are met, NYSHFA must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned to HUD.

Granted By: Edward L. Golding, Principal Deputy Assistant Secretary for Housing.

Date Granted: October 27, 2016.

Reason Waived: Necessary to effectuate the Federal Financing Bank (FFB) Risk Sharing Initiative between Housing and Urban Development and the Treasury Department/FFB announced in Fiscal Year 2014. The approval and execution of the FFB Risk Sharing Agreement will facilitate the expansion of the program to increase the supply of affordable rental housing and to assist in the preservation of existing of rental housing. Under this Initiative, FFB provides capital to participating Housing Finance Agencies (HFAs) to make multifamily loans insured under the FHA Multifamily Risk Sharing Program.

Contact: Daniel J. Sullivan, Acting Director, Office of Multifamily Production, Office of Housing, Department of Housing and Urban Development, 451 7th Street SW., Room 6134, Washington, DC 20410, telephone (202) 402-6130.

• Regulation: 24 CFR 266.410(e).

Project/Activity: New York State Housing Finance Agency (NYSHFA), an approved Section 542(c) Housing Finance Agency Risk Sharing Program participant under the authority of Section 542(c), and implementing regulations under 24 CFR part 266, requested a waiver of 24 CFR Section 266.410(e), which requires insured mortgages to be fully amortized over the term of the mortgage. The waiver request was for Ocean Bay Apartments, a 1,400-unit public housing conversion in Arvene, New York, which is utilizing the Rental Assistance Demonstration (RAD) Program. All units are affordable in the property. The property suffered severe losses resulting from Superstorm Sandy, and has been operating with temporary heating equipment since that time. The waiver of the requirement would permit the HFA to structure the loan with a 40-year amortization with a term of 35 years. In addition, NYSHFA has elected to use a Level II risk level (90-10) with an insured risk share mortgage of $92 million.

Nature of Requirement: Section 266.410(e) governs the amortization, which the mortgage must provide for complete amortization (i.e., regularly amortizing over the term of the mortgage).

Granted By: Edward L. Golding, Principal Deputy Assistant Secretary for Housing.

Date Granted: December 29, 2016.

Reason Waived: New York State Housing Finance Agency requested and was granted waiver of the requirement for Ocean Bay Apartments in order to fulfil the Firm Commitment condition issued on November 22, 2016, which required an approval of the waiver or it would become null and void. The approval of the waiver for a longer amortization period ensured that the RAD project can both be financed and meet required debt service coverage ratios. In addition, granting the waiver helped preserve affordable housing and furthered Superstorm Sandy rehabilitation efforts. Therefore, under the authority of 24 CFR 5.110, HUD waived 24 CFR 266.410(e) to permit a 35-year term with a 40-year amortization for Ocean Bay Apartment. The waiver approval is subject to the following conditions: (1) Accordance with 24 CFR 266.200(d), the mortgage may not exceed an amount supportable by the lower of Section 8 or comparable unassisted market rents; (2) occupancy is no less than 93 percent for previous 12 months; (3) no default in the last 12 months of the HFA loan to be refinanced; (4) Due to the project being subsidized by Section 8 Housing Assistance Payment (HAP) contracts: (a) Owner agrees to renew HAP contract for 20-year term, (subject to appropriations and statutory authorization, etc.) and the project excess funds (surplus cash) shall be held or disbursed in accordance with the RAD Program requirements pursuant to Notice PIH 2012-32 (HA) REV-2.

Contact: Donald Billingsley, Acting Director, Program Administration Division, Office of Multifamily Production, Office of Housing, Department of Housing and Urban Development, 451 7th Street SW., Room 6142, Washington, DC 20410, telephone (202) 402-7125.

• Regulation: 24 CFR 266.410(e).

Project/Activity: Rhode Island Housing and Mortgage Finance Corporation, an approved Section 542(c) Housing Finance Agency Risk Sharing Program participant under the authority of Section 542(c) and implementing regulations under 24 CFR part 266 requested a waiver of 24 CFR Section 266.410(e), which requires mortgages insured to be fully amortized over the term of the mortgage. The waiver of the requirement would permit the HFA to provide loans for three preservation transactions that would amortize over 30 to 40 years, but mature within 17 to 25 years to go into effect on November 1, 2016 for a one-year period.

Nature of Requirement: Section 266.410(e) governs the amortization, which the mortgage must provide for complete amortization (i.e., regularly amortizing over the term of the mortgage).

Granted By: Edward L. Golding, Principal Deputy Assistant Secretary for Housing.

Date Granted: November 23, 2016 (original waiver); December 29, 2016 (amended waiver).

Reason Waived: Rhode Island Housing and Mortgage Finance Corporation requested and was originally granted waiver of the requirement in order to provide flexibility for three preservation projects in the organization's portfolio that do not meet the requirements of the 542(c) Risk Sharing Initiative Program. Therefore, under the authority of 24 CFR 5.110, HUD waived 24 CFR 266.410(e) to permit a term as short as 17 years to 25 years (“Balloon Loans”) for three projects in the organization's portfolio. HUD amended the original waiver since Rhode Island Housing and Mortgage Finance Corporation requested that the provision related to transactions being in the organization's portfolio be deleted from the waiver approval. HUD approved the amended waiver request which is subject to the same conditions of the original approval: (1) Rhode Island Housing and Mortgage Finance Corporation must elect 50 percent or more of the risk of loss on all transaction; (2) the waiver is in effect from November 1, 2016 to November 1, 2017; (3) in accordance with 24 CFR 266.200(d), the mortgage may not exceed an amount supportable by the lower of Section 8 or comparable unassisted market rents; (4) the HFA must comply with regulations stated in 24 CFR 266.210 for insured advance or insurance upon completion transactions; (5) the projects must comply with Davis-Bacon labor standards in accordance with 24 CFR 266.225; (6) all other requirements of CFR 24 266.410 remain applicable and the waiver is only applicable for substantial rehabilitation of three existing loans in the HFA's portfolio; and (7) all affordable housing deed restriction for 20 years must be recorded.

Contact: Donald Billingsley, Acting Director, Program Administration Division, Office of Multifamily Production, Office of Housing, Department of Housing and Urban Development, 451 7th Street SW., Room 6142, Washington, DC 20410-8000, telephone: (202) 402-7125.

• Regulation: 24 CFR 266.620(e).

Project/Activity: Federal Financing Bank (FFB) Risk Sharing Initiative, Termination of Mortgage Insurance. New York State Housing Finance Agency (NYSHFA). Waivers of certain provisions of the Risk Sharing Program regulations for 14 projects utilizing the Federal Financing Bank (FFB) Risk Sharing Initiative in calendar year 2016.

Nature of Requirement: The 24CFR part 266.620(e) Termination of Mortgage Insurance. As required by the Initiative, New York State Housing Finance Agency (NYSHFA) agrees to indemnify HUD for all amounts paid to FFB if “the HFA or its successors commit fraud, or make a material misrepresentation to the Commissioner with respect to information culminating in the Contract of Insurance on the mortgage, or while the Contract of Insurance is in existence.” Only Level I HFAs are eligible for FFB financing, thereby ensuring the HFA maintains financial capacity to perform under the indemnification agreement. If the HFA loses its “A” rating, HFA must post the required reserve account as outlined in CFR 266.110(b)

Granted By: Edward L. Golding, Principal Deputy Assistant Secretary for Housing.

Date Granted: October 27, 2016.

Reason Waived: Necessary to effectuate the Federal Financing Bank (FFB) Risk Sharing Initiative between Housing and Urban Development and the Treasury Department/FFB announced in Fiscal Year 2014. The approval and execution of the FFB Risk Sharing Agreement will facilitate the expansion of the program to increase the supply of affordable rental housing and to assist in the preservation of existing of rental housing. Under this Initiative, FFB provides capital to participating Housing Finance Agencies (HFAs) to make multifamily loans insured under the FHA Multifamily Risk Sharing Program.

Contact: Daniel J. Sullivan, Acting Director, Office of Multifamily Production, Office of Housing, Department of Housing and Urban Development, 451 7th Street SW., Room 6134, Washington, DC 20410, telephone (202) 402-6130.

• Regulation: 24 CFR 290.30(a).

Project/Activity: Miramar Court Apartments, FHA Project Number 012-57123V, Bronx, New York. LRF Housing Associates, L.P. (Owner) seeks approval to waive the non-competitive sale of a HUD-held multifamily mortgage.

Nature of Requirement: The regulation at 24 CFR 290.30(a), which governs the sale of HUD-held mortgages, states that “[e]xcept as otherwise provided in Section 290.31(a)(2), HUD will sell HUD-held multifamily mortgages on a competitive basis.”

Granted by: Edward L. Golding, Principal Deputy Assistant Secretary for Housing, H

Date Granted: November 14, 2016.

Reason Waived: The owner requested and was granted a waiver of the non-competitive sale of a HUD-held multifamily mortgage. A waiver allows the Department to assign the mortgage to the owner's new mortgagee to avoid paying mortgage recording tax in the State of New York.

Contact: Cindy Bridges, Senior Account Executive, Office of Housing, Department of Housing and Urban Development, 451 7th Street SW., Room 6168, Washington, DC 20410, telephone (202) 402-2603.

• Regulation: 24 CFR 891.100(d).

Project/Activity: VOA Living Center of Lake City, Lake City, FL, Project Number: 063-HD030/FL29-W101-004.

Nature of Requirement: Section 891.100(d) prohibits amendment of the amount of the approved capital advance funds prior to closing.

Granted By: Edward L. Golding, Principal Deputy Assistant Secretary for Housing.

Date Granted: November 18, 2016.

Reason Waived: The project is economically designed and comparable in cost to similar projects in the area, and the sponsor/owner has exhausted all efforts to obtain additional funding from other sources.

Contact: Alicia Anderson, Branch Chief, Grants and New Funding, Office of Housing, Department of Housing and Urban Development, 451 7th Street SW., Room 6138, Washington, DC 20410, telephone (202) 402-5787.

• Regulation: 24 CFR 891.130(a).

Project/Activity: Teaneck Senior Housing, Teaneck, NJ, Project Number: 031-EE077/NJ39-S091-004.

Nature of Requirement: Section 891.130(a) prohibits Officers or Board members of either the Sponsor or the Owners (or Borrowers, as applicable) to have any financial interest in any contract with the Owner or in any firm which has a contract with the Owner. This restriction applies as long as the individual is serving on the Board and for a period of three years following resignation or final closing, whichever occurs later.

Granted By: Edward L. Golding, Principal Deputy Assistant Secretary for Housing.

Date Granted: October 24, 2016.

Reason Waived: The integrity of the Section 202 or Section 811 program is not jeopardized and the service to be provided would not otherwise be readily available. They meet HUD requirements.

Contact: Alicia Anderson, Branch Chief, Grants and New Funding, Office of Housing, Department of Housing and Urban Development, 451 7th Street SW., Room 6138, Washington, DC 20410, telephone (202) 402-5787.

• Regulation: 24 CFR 891.165.

Project/Activity: VOA Living Center of Lake City, Lake City, FL, Project Number: 063-HD030/FL29-Q101-004.

Nature of Requirement: Section 891.165 provides that the duration of the fund reservation of the capital advance is 18-months from the date of issuance with limited exceptions up to 36 months, as approved by HUD on a case-by-case basis.

Granted By: Edward L. Golding, Principal Deputy Assistant Secretary for Housing.

Date Granted: December 13, 2016.

Reason Waived: Additional time was needed to review the initial closing package.

Contact: Alicia Anderson, Branch Chief, Grants and New Funding, Office of Housing, Department of Housing and Urban Development, 451 7th Street SW., Room 6138, Washington, DC 20410, telephone (202) 402-5787.

• Regulation: 24 CFR 891.165.

Project/Activity: Rosa Parks II Senior Housing, San Francisco, CA, Project Number: 121-EE225/CA39-S101-002.

Nature of Requirement: Section 891.165 provides that the duration of the fund reservation of the capital advance is 18-months from the date of issuance with limited exceptions up to 36 months, as approved by HUD on a case-by-case basis.

Granted By: Edward L. Golding, Principal Deputy Assistant Secretary for Housing.

Date Granted: December 28, 2016.

Reason Waived: Additional time was needed for the Tax Credit Limited Partners to pay the Owner its contributions in May 2017 for the construction loan.

Contact: Alicia Anderson, Branch Chief, Grants and New Funding, Office of Housing, Department of Housing and Urban Development, 451 7th Street SW., Room 6138, Washington, DC 20410, telephone (202) 402-5787.

III. Regulatory Waivers Granted by the Office of Public and Indian Housing

For further information about the following regulatory waivers, please see the name of the contact person that immediately follows the description of the waiver granted.

• Regulation: 24 CFR 982.503.

Project/Activity: Chattanooga Housing Authority in Chattanooga, Tennessee, requested a waiver of 24 CFR 982.503 so that it could continue using Small Area Fair Market Rents (SAFMR) beyond the end of the demonstration period.

Nature of Requirement: 24 CFR 982.503 establishes the regulatory requirement for the setting of payment standards and schedules for the Housing Choice Voucher program.

Granted By: Lourdes Castro Ramírez, Principal Deputy Assistant Secretary for Public and Indian Housing.

Date Granted: November 22, 2016.

Reason Waived: This regulation was waived since without a waiver, the agency would have to cease using SAFMRs which had been in effect since October 2012 and could present a hardship on families.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.503.

Project/Activity: Housing Authority of Cook County in Chicago, Illinois, requested a waiver of 24 CFR 982.503 so that it could continue using Small Area Fair Market Rents (SAFMR) beyond the end of the demonstration period.

Nature of Requirement: 24 CFR 982.503 establishes the regulatory requirement for the setting of payment standards and schedules for the Housing Choice Voucher program.

Granted By: Lourdes Castro Ramírez, Principal Deputy Assistant Secretary for Public and Indian Housing.

Date Granted: November 22, 2016.

Reason Waived: This regulation was waived since without a waiver, the agency would have to cease using SAFMRs which had been in effect since October 2012 and could present a hardship on families.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.503(a) and (c)(2).

Project/Activity: San Francisco Housing Authority in San Francisco, California, requested a waiver of these regulations so that it could allow payment standards of 120 percent of the 2017 50th percentile fair market rents for its HUD-VASH families.

Nature of Requirement: These regulations limit the amount of exception payment standards that may be established for the public housing agency.

Granted By: Lourdes Castro Ramírez, Principal Deputy Assistant Secretary for Public and Indian Housing.

Date Granted: December 21, 2016.

Reason Waived: Higher payment standards were warranted since the utilization of HUD-VASH vouchers was only 70 percent and the vacancy rate in San Francisco was less than one percent.

Contact: Becky Primeaux, Director, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Chicago Housing Authority in Chicago, Illinois, requested a waiver of 24 CFR 982.505(d) so that it could approve an exception payment standard amount above 120 percent of the fair market rents (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: October 3, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: San Diego Housing Commission in San Diego, California, requested a waiver of 24 CFR 982.505(d) so that it could approve an exception payment standard amount above 120 percent of the fair market rents (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: October 11, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Orange County Housing Authority in Santa Ana, California, requested a waiver of 24 CFR 982.505(d) so that it could approve an exception payment standard amount above 120 percent of the fair market rents (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: November 15, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Chicago Housing Authority in Chicago, Illinois, requested a waiver of 24 CFR 982.505(d) so that it could approve an exception payment standard amount above 120 percent of the fair market rents (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: November 23, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Vermont State Housing Authority in Montpelier, Vermont, requested a waiver of 24 CFR 982.505(d) so that it could approve an exception payment standard amount above 120 percent of the fair market rents (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: November 23, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Housing Authority of Grays Harbor in Aberdeen, Washington, requested a waiver of 24 CFR 982.505(d) so that it could approve an exception payment standard amount above 120 percent of the fair market rent (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: November 29, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Chicago Housing Authority in Chicago, Illinois, requested a waiver of 24 CFR 982.505(d) so that it could approve an exception payment standard amount above 120 percent of the fair market rent (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: December 1, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: City of Des Moines Housing Services Department in Des Moines, Iowa, requested a waiver of 24 CFR 982.505(d) so that it could approve an exception payment standard amount above 120 percent of the fair market rent (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: December 1, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Holden Housing Authority in Holden, Massachusetts, requested a waiver of 24 CFR 982.505(d) so that it could approve an exception payment standard amount above 120 percent of the fair market rent (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: December 1, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Chicago Housing Authority in Chicago, Illinois, requested a waiver of 24 CFR 982.505(d) so that it could approve an exception payment standard amount above 120 percent of the fair market rent (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: December 9, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Colorado Department of Local Affairs in Denver, Colorado, requested a waiver of 24 CFR 982.505(d) so that it could approve an exception payment standard amount above 120 percent of the fair market rent (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: December 9, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Housing Authority of Skagit County in Burlington, Washington, requested a waiver of 24 CFR 982.505(d) so that it could approve an exception payment standard amount above 120 percent of the fair market rent (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: December 20, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: The Waterloo Housing Authority (WHA) in Waterloo, Iowa, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Lourdes Castro Ramírez, Principal Deputy Assistant Secretary for Public and Indian Housing.

Date Granted: October 12, 2016.

Reason Waived: This waiver was granted for the WHA's fiscal year ending June 30, 2016. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Allen Metropolitan Housing Authority (AMHA) in Lima, Ohio, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Lourdes Castro Ramírez, Principal Deputy Assistant Secretary for Public and Indian Housing.

Date Granted: October 25, 2016.

Reason Waived: This waiver was granted for the AMHA's fiscal year ending June 30, 2016. The waiver was approved because of circumstances beyond the AMHA's control and to prevent additional administrative burdens for the PHA and field office.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Denham Springs Housing Authority (DSHA) in Denham Springs, LA, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Lourdes Castro Ramírez, Principal Deputy Assistant Secretary for Public and Indian Housing.

Date Granted: December 9, 2016.

Reason Waived: This waiver was granted for the DSHA's fiscal year ending September 30, 2016. The waiver was approved because of circumstances beyond the DSHA's control and to prevent additional administrative burdens for the PHA and field office.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 902.22 and 902.25

Project/Activity: Duson Housing Authority (LA130).

Nature of Requirement: Physical inspections are required to ensure that public housing units are decent, safe, sanitary and in good repair, as determined by an inspection conducted in accordance with HUD's Uniform Physical Condition Standards (UPCS). Baseline inspections will have all properties inspected regardless of previous PHAS designation or physical inspection scores.

Granted By: Lourdes Castro Ramírez, Principal Deputy Assistant Secretary for Public and Indian Housing.

Date Granted: November 23, 2016.

Reason Waived: The Duson Housing Authority (HA), requested to be waived from fiscal year (FY) 2016 physical inspections and physical condition scoring of property/units for its fiscal year end (FYE) of March 31, 2016. The HA is located within the Lafayette Parish, impacted by the 2016 Louisiana severe flooding, and was Presidentially-Declared Federal Disaster Area.

Pursuant to 24 CFR 5.110, the HA was granted a waiver for good cause of its 2016 physical inspection and its 2016 PHAS physical condition indicator score for the FYE March 31, 2016. The HA was advised that March 31, 2017, would be the baseline year to determine its eligibility for Small PHA Deregulation and that a new inspection would be required upon that date.

Contact: Dee Ann R. Walker, Acting Program Manager, NASS, Real Estate Assessment Center, Office of Public and Indian Housing, Department of Housing and Urban Development, 550 12th Street SW., Suite 100, Washington, DC 20410, telephone (202) 475-7908.

• Regulation: 24 CFR 902.22 and 902.25.

Project/Activity: Housing Authority of the Town of Erath (LA047).

Nature of Requirement: Physical inspections are required to ensure that public housing units are decent, safe, sanitary and in good repair, as determined by an inspection conducted in accordance with HUD's Uniform Physical Condition Standards (UPCS). Baseline inspections will have all properties inspected regardless of previous PHAS designation or physical inspection scores.

Granted By: Lourdes Castro Ramírez, Principal Deputy Assistant Secretary for Public and Indian Housing.

Date Granted: December 16, 2016.

Reason Waived: The Housing Authority of the Town of Erath (HA), requested to be waived from fiscal year (FY) 2016 physical inspections and physical condition scoring of property/units for its fiscal year end (FYE) of December 31, 2016. The HA is located within the Vermilion Parish, impacted by the 2016 Louisiana severe flooding, and was Presidentially-Declared Federal Disaster Area. Pursuant to 24 CFR 5.110, the HA was granted a waiver for good cause of its 2016 physical inspection and its 2016 PHAS physical condition indicator score for the FYE December 31, 2016. The HA was advised that December 31, 2017, would be the baseline year to determine its eligibility for Small PHA Deregulation and that a new inspection would be required upon that date.

Contact: Dee Ann R. Walker, Acting Program Manager, NASS, Real Estate Assessment Center, Office of Public and Indian Housing, Department of Housing and Urban Development, 550 12th Street SW., Suite 100, Washington, DC 20410, telephone (202) 475-7908.

• Regulation: 24 CFR 902.22 and 902.25.

Project/Activity: Housing Authority of the City of Eunice (LA025).

Nature of Requirement: Physical inspections are required to ensure that public housing units are decent, safe, sanitary and in good repair, as determined by an inspection conducted in accordance with HUD's Uniform Physical Condition Standards (UPCS). Baseline inspections will have all properties inspected regardless of previous PHAS designation or physical inspection scores.

Granted By: Lourdes Castro Ramírez, Principal Deputy Assistant Secretary for Public and Indian Housing.

Date Granted: December 16, 2016.

Reason Waived: The Housing Authority of the City of Eunice (HA), requested to be waived from fiscal year (FY) 2016 physical inspections and physical condition scoring of property/units for its fiscal year end (FYE) of September 30, 2016. The HA is located within the St. Landry Parish, impacted by the 2016 Louisiana severe flooding, and was Presidentially-Declared a Federal Disaster Area. Pursuant to 24 CFR 5.110, the HA was granted a waiver for good cause of its 2016 physical inspection and its 2016 PHAS physical condition indicator score for the FYE September 30, 2016. The HA was advised that September 30, 2017, would be the baseline year to determine its eligibility for Small PHA Deregulation and that a new inspection would be required upon that date.

Contact: Dee Ann R. Walker, Acting Program Manager, NASS, Real Estate Assessment Center, Office of Public and Indian Housing, Department of Housing and Urban Development, 550 12th Street SW., Suite 100, Washington, DC 20410, telephone (202) 475-7908.

[FR Doc. 2017-06198 Filed 3-28-17; 8:45 am]

BILLING CODE 4210-67-P